DEPARTMENT OF COMMERCE

National Institute of Standards and Technology

Prospective Grant of Exclusive Patent License

AGENCY: National Institute of Standards and Technology, Department of Commerce.

ACTION: Notice of prospective grant of exclusive patent license.

SUMMARY: This is a notice in accordance with 35 U.S.C. 209(e) and 37 CFR 404.7(a)(1)(i) that the National Institute of Standards and Technology (“NIST”), U.S. Department of Commerce, is contemplating the grant of an exclusive license in the United States of America, its territories, possessions and commonwealths, to NIST's interest in the invention embodied in U.S. Patent Application No. 13/346,999 titled “Chirped-Pulse Terahertz Spectroscopy for Broadband Trace Gas Sensing,” NIST Docket No. 11-016 to TerBAT Inc., having a place of business at 2400 Trade Centre Ave, Longmont, CO 80503. The grant of the license would be for the field of use of medical diagnostic devices and environmental/industrial monitoring devices.

FOR FURTHER INFORMATION CONTACT: Cathy Cohn, National Institute of Standards and Technology, Technology Partnerships Office, 100 Bureau Drive, Stop 2200, Gaithersburg, MD 20899, (301) 975-6691, cathleen.cohn@nist.gov.

SUPPLEMENTARY INFORMATION: The prospective exclusive license will be royalty bearing and will comply with the terms and conditions of 35 U.S.C. 209 and 37 CFR 404.7. The prospective exclusive license may be granted unless, within fifteen days from the date of this published Notice, NIST receives written evidence and argument which establish that the grant of the license would not be consistent with the requirements of 35 U.S.C. 209 and 37 CFR 404.7.

U.S. Patent Application No. 13/346,999 is co-owned by the U.S. government, as represented by the Secretary of Commerce and the University of Massachusetts Amherst. The invention comprises Terahertz spectroscopy methods that are fast and have excellent spectral resolution and that do not require background correction of the instrument response without sample are disclosed. In one instance, the methods include phase coherent chirp pulse generation and phase coherent detection.

Dated: June 25, 2012.
Willie E. May,
Associate Director for Laboratory Programs.

[FR Doc. 2012-16016 Filed 6-28-12; 8:45 am]

BILLING CODE 3510-13-P